DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Admittance to Practice and Roster of Registered Patent Attorneys and Agents Admitted to Practice Before the United States Patent and Trademark Office (USPTO) (Proposed Addition).

Form Number(s): PTO-158RA.

Type of Request: Revision of a currently approved collection.

Burden: 60 hours annually.

Number of Respondents: 40 responses per year.

Avg. Hours per Response: The USPTO estimates that it will take the public approximately 1.5 hours to complete the Reasonable Accommodation Request, depending upon the situation.

Needs and Uses: The USPTO is introducing a new form, PTO-158RA Request for Reasonable Accommodation, to facilitate an applicant's request for reasonable accommodation when they apply for the examination for registration to practice before the USPTO. This new form will assist applicants in providing the USPTO with the correct and necessary supporting documentation through a standardized format.

The USPTO will use the information collected from the form to determine whether the applicant meets all of the necessary requirements for reasonable accommodation.

Affected Public: Individuals or households.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0012 proposed addition copy request” in the subject line of the message.

• Mail: Susan K. Fawcett, Records Officer, Office of the Chief Information Officer, United States Patent and Trademark Office, P.O. Box 1450, Alexandria, VA 22313-1450.

Written comments and recommendations for the proposed information collection should be sent on or before September 7, 2011 to Nicholas A. Fraser, OMB Desk Officer, via e-mail to Nicholas_A._Fraser@omb.eop.gov, or by fax to 202-395-5167, marked to the attention of Nicholas A. Fraser.

Dated: August 3, 2011.
Susan K. Fawcett,
Records Officer, USPTO, Office of the Chief Information Officer.

[FR Doc. 2011-19970 Filed 8-5-11; 8:45 am]

BILLING CODE 3510-16-P